FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 011938-006.

Title: HSDG/Alianca/CSAV/Libra/CLNU Cooperative Working Agreement.

Parties: Hamburg-Sud (“HSDG”); Alianca Navegacao e Logistica Ltda. e CIA (“Alianca”); Compania Sud Americana de Vapores, S.A.; Companhia Libra de Navegacao; and Montemar Maritima S.A.

Filing Party: Wayne R. Rohde, Esq.; Cozen O'Connor; 1627 I Street, NW.; Suite 1100; Washington, DC 20006-4007.

Synopsis: The amendment would delete Venezuela from the geographic scope of the agreement, increase the size of vessels that can be deployed under the agreement and revise the parties' space allocations accordingly, delete obsolete language, and revise the governing law and arbitration provisions of the agreement.

Agreement No.: 011961-010.

Title: Maritime Credit Agreement.

Parties: Alianca Navegacao e Logistica Ltda. & Cia.; China Shipping Container Lines Co., Ltd.; CMA CGM S.A.; Companhia Libra de Navegacao; Compania Libra de Navegacion Uruguay S.A.; Compania Sud Americana de Vapores, S.A.; COSCO Container Lines Company Limited; Dole Ocean Cargo Express; Hamburg-Süd; Hoegh Autoliners A/S; Hyundai Merchant Marine Co., Ltd.; Independent Container Line Ltd.; Kawasaki Kisen Kaisha, Ltd.; Nippon Yusen Kaisha; Norasia Container Lines Limited; Safmarine Container Lines N.V.; United Arab Shipping Company (S.A.G.); Wallenius Wilhelmsen Logistics AS; YangMing Marine Transport Corp.; Zim Integrated Shipping Services, Ltd.

Filing Party: Wayne R. Rohde, Esq.; Cozen O'Connor; 1627 I Street, NW., Suite 1100; Washington, DC 20006.

Synopsis: The amendment removes Tropical Shipping & Construction Co., Ltd. as party to the Agreement.

Agreement No.: 012073-001.

Title: MSC/CSAV Group Vessel Sharing Agreement.

Parties: MSC Mediterranean Shipping Company SA; Compaňia Sud Americana de Vapores S.A.; Companhia Libra de Navegacao; and Compania Libra de Navegacion Uruguay S.A.

Filing Party: Wayne R. Rohde, Esq.; Cozen O'Connor; 1627 I Street, NW.; Suite 1100; Washington, DC 20006-4007.

Synopsis: The amendment would increase the size of vessels that can be deployed under the agreement and revise the parties' space allocations accordingly.

Agreement No.: 012139.

Title: OVSA/MSC Space Charter Agreement.

Parties: Hamburg-Sud, A.P. Moller-Maersk A/S, MSC Mediterranean Shipping Company S.A., CMA CGM, S.A., and Hapag-Lloyd AG.

Filing Parties: Wayne R. Rohde, Esq.; Cozen O'Connor; 1627 I Street, NW; Suite 1100; Washington, DC 20006-4007.

Synopsis: The Agreement authorizes Hamburg-Sud, Moller-Maersk, Hapag, Lloyd and CMA CGM to charter space to Med Shipping in the trade between U.S. West Coast ports and ports in Australia, and New Zealand.

Agreement No.: 012140.

Title: CSAV/Siem Turkey Space Charter Agreement.

Parties: Compania Sud Americana de Vapores, S.A. and Siem Car Carriers (Pacific) AS.

Filing Party: Walter H. Lion Esq.; McLaughlin & Stern, LLP; 260 Madison Avenue, New York NY 10016.

Synopsis: The agreement permits CSAV and Siem to cross charter space for the movement of motorized vehicles in the trade from Turkey to the U.S. East Coast.

Agreement No.: 012141.

Title: COSCON and WHL Transpacific Vessel Sharing and Slot Allocation Agreement.

Parties: COSCO Container Lines Company Limited. and Wan Hai Lines (Singapore) Ptd. Ltd.

Filing Parties: Susannah Keagle, Esq.; Nixon Peabody LLP; 555 West 5th Street, 46th Floor; Los Angeles, CA 90013-1025.

Synopsis: The agreement authorizes the parties to operate six vessels and exchange slots in the trades between Vietnam, China, and the United States.

Agreement No.: 201165-001.

Title: Marine Terminal Lease and Operating Agreement.

Parties: Broward County, Saw Grass Transport, Inc., and Dole Fresh Fruit Company

Filing Party: Candace J. McCann; Broward County Board of County Commissioners; Office of the County Attorney; 1850 Eller Drive, Suite 502; Fort Lauderdale, FL 33316.

Synopsis: The amendment revises the legal description of the demised premises and provides for the reassignment of the lease and operating agreement to Dole.

By Order of the Federal Maritime Commission.
Dated: October 14, 2011.
Rachel E. Dickon,
Assistant Secretary.

[FR Doc. 2011-27055 Filed 10-18-11; 8:45 am]

BILLING CODE 6730-01-P